DEPARTMENT OF THE INTERIOR

Bureau of Land Management

[LLMTL00000.L10200000.PG0000]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be May 13-14, 2014. The May 13 meeting will begin at 10:00 a.m. with a 30-minute public comment period and will adjourn at 5:00 p.m. The May 14 meeting will begin at 8:00 a.m. with a 30-minute public comment period beginning at 10:00 a.m. and will adjourn at 12:00 p.m.

ADDRESSES: The meetings will be in the Bureau of Land Management, Central Montana District Office, Lewistown Field Office Conference Room at 920 NE Main, Lewistown, Montana.

FOR FURTHER INFORMATION CONTACT: Mark Albers, HiLine District Manager, Great Falls Field Office, 1101 15th Street North, Great Falls, MT 59401, (406) 791-7789, malbers@blm.gov. Persons who use a telecommunications device for the deaf (TDD) may call the Federal Information Relay Service (FIRS) at 1-800-677-8339 to contact the above individual during normal business hours. The FIRS is available 24 hours a day, 7 days a week to leave a message or question with the above individual. You will receive a reply during normal business hours.

SUPPLEMENTARY INFORMATION: This 15-member council advises the Secretary of the Interior on a variety of management issues associated with public land management in Montana. During these meetings the council will participate in/discuss/act upon these topics/activities: A roundtable discussion among council members and the BLM; orientation of new members; election of officers; report on Chairpersons meeting; update on litigations; Greater Sage-grouse and Lewistown RMP updates; discussion about the Missouri Breaks Interpretive Center fee increase; discussion about establishing a rental program for the Zortman Ranger Station; discussion about establishing a reservation system for Buff's Day Use Area; and District Managers' updates. All RAC meetings are open to the public.

Each formal RAC meeting will also have time allocated for hearing public comments.

Depending on the number of persons wishing to comment and time available, the time for individual oral comments may be limited.

Dated: March 24, 2014.
Mark K. Albers,
HiLine District Manager.

[FR Doc. 2014-07338 Filed 4-1-14; 8:45 am]

BILLING CODE 4310-DN-P